FEDERAL COMMUNICATIONS COMMISSION

[OMB 3060-1254; FR ID 153846]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before September 12, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

OMB Control Number: 3060-1254.

Title: Next Gen TV/ATSC 3.0 Local Simulcasting Rules; 47 CFR 73.3801 (full-power TV), 73.6029 (Class A TV), and 74.782 (low-power TV) and FCC Form 2100 (Next Gen TV License Application).

Form Number: FCC Form 2100 (Next Gen TV License Application).

Type of Review: Revision of a currently approved collection.

Respondents: Business or other for-profit entities, state, local, or tribal government and not for profit institutions.

Number of Respondents and Responses: 1,222 respondents; 11,260 responses.

Estimated Time per Response: 0.017-8 hours.

Frequency of Response: On occasion reporting requirement; Recordkeeping requirement; Third party disclosure.

Obligation to Respond: Required to obtain or retain benefits. Statutory authority for this collection of information is contained in Sections 1, 4, 7, 301, 303, 307, 308, 309, 316, 319, 325(b), 336, 338, 399b, 403, 614, and 615 of the Communications Act of 1934, as amended, 47 U.S.C. 151, 154, 157, 301, 303, 307, 308, 309, 316, 319, 325(b), 336, 338, 399b, 403, 534, and 535.

Total Annual Burden: 3,802 hours.

Total Annual Cost: $147,000.

Needs and Uses: On June 23, 2023, the Commission released a Third Report and Order (Third R&O), FCC 23-53, in GN Docket No. 16-142. In this Third R&O, the Commission makes changes to its Next Gen TV rules designed to preserve over-the-air (OTA) television viewers' access to multicast streams during television broadcasters' transition to ATSC 3.0.

Multicast Licensing. The Commission generally adopts its proposal in the Next Gen TV Multicast Licensing FNPRM to allow a Next Gen TV station to seek modification of its license to include certain of its non-primary video programming streams (multicast streams) that are aired on “host” stations during a transitional period. In adopting this proposal, the Commission follows the same licensing framework, and to a large extent the same regulatory regime, established for the simulcast of primary video programming streams on “host” station facilities.

Form 2100. The Commission adopts the Next Gen TV Multicast Licensing FNPRM's proposal to modify its Next Gen TV license application form (FCC Form 2100) to accommodate multicast licensing by collecting information similar to that already collected in the interim STA process. The Commission requires certain additional information as an addendum to Form 2100 if stations seek to include hosted multicast streams within their license. It also clarifies and slightly modifies the requirements of its rules governing Form 2100 to reflect the possibility of reliance on multiple hosts.

Specifically, applicants must prepare an Exhibit identifying each proposed hosted stream and provide the following information about each stream, as broadcast:

• the host station;

• channel number (RF and virtual);

• network affiliation (or type of programming if unaffiliated);

• resolution (e.g., 1080i, 720p, 480p, or 480i);

• the predicted percentage of population within the noise limited service contour served by the station's original ATSC 1.0 signal that will be served by the host, with a contour overlay map identifying areas of service loss and, in the case of 1.0 streams, coverage of the originating station's community of license; and

• whether the stream will be simulcast, and if so, the “paired” stream in the other service.

Finally, the Exhibit must either state that the applicant will be airing the same programming that it is airing in 1.0 at the time of the application or identify the station that has aired or is airing the same or a similar programming lineup at the same resolutions on the same type of facility (individual or shared), as well as that station's lineup (with resolutions). This Exhibit must be placed on the applicant's public website or in the applicant's online public inspection file if the station does not have a dedicated website, with a link provided in the application. This information is consistent both with that currently collected in STA applications and the approach identified in the Next Gen TV Multicast Licensing FNPRM. As with broadcast licenses generally, modifications to this license application or its accompanying exhibit (with respect to the primary or multicast streams) must be preceded by the filing and approval of a new application. Changes to the affiliation or content of a stream, or the elimination of a stream, however, do not implicate the concerns raised in this proceeding if they would not result in the use of additional capacity and if information about the change is easily available to the public. Therefore, in order to streamline this process for both broadcasters and the Commission, such changes may be implemented without prior Commission approval. They need only be reflected in a timely update to the Exhibit that the applicant makes available on its public website or in the applicant's online public inspection file and in an email notice to the Chief of the Media Bureau's Video Division.

The new information collection requirements are contained in §§ 73.3801(f) and (i), 73.6029(f) and (i), and 74.782(g) and (j) of the Commission's rules.

Federal Communications Commission.
Marlene Dortch,
Secretary, Office of the Secretary.

[FR Doc. 2023-14792 Filed 7-13-23; 8:45 am]

BILLING CODE 6712-01-P